DEPARTMENT OF THE INTERIOR

Fish and Wildlife Service

[FWS-R3-ES-2016-N123; FXES11130300000-167-FF03E00000]

Endangered and Threatened Wildlife and Plants; Permit Applications

AGENCY: Fish and Wildlife Service, Interior.

ACTION: Notice of availability; request for comments.

SUMMARY: We, the U.S. Fish and Wildlife Service, invite the public to comment on the following applications for a permit to conduct activities intended to enhance the survival of endangered or threatened species. Federal law prohibits certain activities with endangered species unless a permit is obtained.

DATES: We must receive any written comments on or before September 8, 2016.

ADDRESSES: Send written comments by U.S. mail to the Regional Director, Attn: Carlita Payne, U.S. Fish and Wildlife Service, Ecological Services, 5600 American Blvd. West, Suite 990, Bloomington, MN 55437-1458; or by electronic mail to permitsR3ES@fws.gov.

FOR FURTHER INFORMATION CONTACT: Carlita Payne, (612) 713-5343.

SUPPLEMENTARY INFORMATION:

Background

The Endangered Species Act of 1973 (ESA), as amended (16 U.S.C. 1531 et seq.), prohibits certain activities with endangered and threatened species unless the activities are specifically authorized by a Federal permit. The ESA and our implementing regulations in part 17 of title 50 of the Code of Federal Regulations (CFR) provide for the issuance of such permits and require that we invite public comment before issuing permits for activities involving endangered species.

A permit granted by us under section 10(a)(1)(A) of the ESA authorizes the permittee to conduct activities with U.S. endangered or threatened species for scientific purposes, enhancement of propagation or survival, or interstate commerce (the latter only in the event that it facilitates scientific purposes or enhancement of propagation or survival). Our regulations implementing section 10(a)(1)(A) of the ESA for these permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the permit number when you submit comments. Documents and other information the applicants have submitted with the applications are available for review, subject to the requirements of the Privacy Act (5 U.S.C. 552a) and Freedom of Information Act (5 U.S.C. 552).

Permit Applications

Proposed activities in the following permit requests are for the recovery and enhancement of survival of the species in the wild.

Application No. | Applicant | Species | Location | Activity | Type of take | Permit action
TE217351 | U.S. Department of Agriculture (USDA)—Forest Service, Nelsonville, OH | Indiana bat (Myotis sodalis), northern long-eared bat (Myotis septentrionalis), gray bat (Myotis grisescens) | OH, KY, IL | Conduct presence/absence surveys, document habitat use, conduct population monitoring, evaluate impacts | Capture, handle, radio-tag, release | Amend, renew.
TE03495B | Kristina Hammond, Cheyenne, WY | Indiana bat, northern long-eared bat | Rangewide | Conduct presence/absence surveys, document habitat use, conduct population monitoring, evaluate impacts | Capture, handle, radio-tag, release | Amend, renew.
TE64238B | Jocelyn Karsk, Ball State University, Muncie, IN | Indiana bat, northern long-eared bat | Rangewide | Conduct presence/absence, migration, and telemetry surveys | Capture, handle, radio-tag, release | Amend.
TE10887A | U.S. Geological Survey, Chesterton, IN | Karner blue butterfly (Lycaeides melissa samuelis) | WI | Establish captive colony for climate change research | Capture, collect, obtain eggs, maintain/rear in captivity | Amend, renew.
TE77313A | Egret Environmental Consulting, LLC | Indiana bat, northern long-eared bat, gray bat, Hine's emerald dragonfly (Somatochlora hineana) | Rangewide | Conduct presence/absence surveys, document habitat use, conduct population monitoring, evaluate impacts | capture, handle, radio-tag, release | Amend.
TE31355B | Brooke Hines, Paris, KY | Indiana bat, northern long-eared bat, gray bat, Virginia big-eared bat (Plecotus townsendii virginianus), Ozark big-eared bat (Plecotus townsendii ingens) | Rangewide | Conduct presence/absence surveys, document habitat use, conduct population monitoring, evaluate impacts | Capture, handle, radio-tag, release | Amend, renew.
TE049738 | Third Rock Consultants, LLC, Lexington, KY | Indiana bat, northern long-eared bat, gray bat, Virginia big-eared bat, Ozark big-eared bat, American burying beetle (Nicrophorus americanus), 18 fish species, and 50 mussel species | AL, FL, GA, IA, IL, IN, KY, MI, MO, MS, NC, OH, SC, TN | Conduct presence/absence surveys, document habitat use, conduct population monitoring, evaluate impacts | Capture, handle (bats); harass (mussels and fish); capture, handle, release (beetle) | Amend, renew.
TE98294A | Normandale Associates Inc., Stowe, PA | Indiana bat, northern long-eared bat | IL, IN, IA, MI, MN, MO, OH, WI | Conduct presence/absence surveys | Capture, handle, radio-tag, release | Amend, renew.
TE01322C | USDA—Forest Service, Northern Research Station, Rhinelander, WI | Indiana bat, northern long-eared bat | Rangewide | Conduct presence/absence surveys, conduct population monitoring, conduct white-nose syndrome research | Capture, handle, radio-tag, band, collect samples, release | New.
TE01320C | Kristi Confortin, Ball State University, Muncie, IN | Indiana bat, northern long-eared bat | IL, IN | Conduct presence/absence surveys, conduct population monitoring, conduct white-nose syndrome research | Capture, handle, radio-tag, band, collect samples, release, salvage | New.
TE01311C | Shawn McKinley, Grafton, WV | Indiana bat, northern long-eared bat, gray bat, Virginia big-eared bat | OH | Conduct presence/absence surveys | Capture, band, release | New.

National Environmental Policy Act

The proposed activities in the requested permits qualify as categorical exclusions under the National Environmental Policy Act, as provided by Department of the Interior implementing regulations in part 46 of title 43 of the CFR (43 CFR 46.205, 46.210, and 46.215).

Public Availability of Comments

We seek public review and comments on these permit applications. Please refer to the permit number when you submit comments. Comments and materials we receive in response to this notice are available for public inspection, by appointment, during normal business hours at the address listed above in ADDRESSES.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the ESA (16 U.S.C. 1531 et seq.).

Dated: July 29, 2016.
Sean Marsan,
Acting Assistant Regional Director, Ecological Services, Midwest Region.

[FR Doc. 2016-18819 Filed 8-8-16; 8:45 am]

BILLING CODE 4333-15-P